DEPARTMENT OF LABOR

Employment and Training Administration

[TA-W-54,386]

Interface Fabrics Group South, Inc., Interface Fabrics Group Marketing, Inc., Elkin, NC; Notice of Termination of Investigation

Pursuant to section 221 of the Trade Act of 1974, as amended, an investigation was initiated on March 1, 2004, in response to a petition filed on behalf of workers at Interface Fabrics Group South, Inc., Interface Fabrics Group Marketing, Inc., Elkin, North Carolina.

The petitioner has requested that the petition be withdrawn. Consequently, further investigation in this case would serve no purpose, and the investigation has been terminated.

Signed at Washington, DC this 24th day of May, 2004.
Elliott S. Kushner,
Certifying Officer, Division of Trade Adjustment Assistance.

[FR Doc. 04-12883 Filed 6-7-04; 8:45 am]

BILLING CODE 4510-30-P